DEPARTMENT OF TRANSPORTATION

Federal Aviation Administration

14 CFR Part 91

[Docket No. FAA-2017-0768; Amdt. No. 91-348A]

RIN 2120-AL07

Prohibition Against Certain Flights in the Damascus (OSTT) Flight Information Region (FIR); Correction

AGENCY: Federal Aviation Administration (FAA), Department of Transportation (DOT).

ACTION: Final rule; correction.

SUMMARY: The FAA is correcting a final rule published on August 29, 2017. In that final rule, which became effective on the date of publication, the FAA reissued a prohibition of certain flight operations in the Damascus (OSTT) Flight Information Region (FIR) by all U.S. air carriers; U.S. commercial operators; persons exercising the privileges of an airman certificate issued by the FAA, except such persons operating a U.S.-registered aircraft for a foreign air carrier; and operators of U.S.-registered civil aircraft, except where the operator is a foreign air carrier. The FAA inadvertently failed to include an Amendment Number for that final rule. This document corrects that error.

DATES: This final rule is effective on September 11, 2017.

FOR FURTHER INFORMATION CONTACT: Michael Filippell or Will Gonzalez, Air Transportation Division, AFS-220, Flight Standards Service, Federal Aviation Administration, 800 Independence Avenue SW., Washington, DC 20591; telephone: 202-267-8166; email: michael.e.filippell@faa.gov or will.gonzalez@faa.gov.

SUPPLEMENTARY INFORMATION:

Background

On August 29, 2017, the FAA published a final rule entitled, “Prohibition Against Certain Flights in the Damascus (OSTT) Flight Information Region (FIR).” In that final rule, which became effective August 29, 2017, the FAA amended 14 CFR part 91. The FAA inadvertently failed to include an amendment number for part 91 in the heading information of the final rule. The correct amendment number is 91-348.

Correction

In the final rule, FR Doc No: 2017-18322, published on August 29, 2017, at 82 FR 40944 make the following correction:

1. On page 40944 in the heading of the final rule, revise “Amdt. No. 91-?” to read as “Amdt. No. 91-348”.

Issued in Washington, DC, under the authority provided by 49 U.S.C. 106(f), on August 29, 2017.
Lirio Liu,
Director, Office of Rulemaking.

[FR Doc. 2017-19165 Filed 9-8-17; 8:45 am]

BILLING CODE 4910-13-P